DEPARTMENT OF ENERGY

Federal Energy Regulatory Commission

[Project No. 14514-003]

Community of Elfin Cove Non Profit Corporation, DBA Elfin Cove Utility Commission; Notice of Waiver Period for Water Quality Certification Application

On August 19, 2022 the Community of Elfin Cove Non Profit Corporation DBA Elfin Cove Utility Commission submitted to the Federal Energy Regulatory Commission (Commission) a copy of its application for a Clean Water Act section 401(a)(1) water quality certification filed with Alaska Department of Environmental Conservation, in conjunction with the above captioned project. Pursuant to 40 CFR 121.6 and section [4.34(b)(5), 5.23(b), 153.4, or 157.22] of the Commission's regulations,¹ we hereby notify the Alaska Department of Environmental Conservation of the following:

¹ 18 CFR [4.34(b)(5)/5.23(b)/153.4/157.22].

Date of Receipt of the Certification Request: August 19, 2022

Reasonable Period of Time to Act on the Certification Request: One year (August 19, 2023)

If Alaska Department of Environmental Conservation fails or refuses to act on the water quality certification request on or before the above date, then the agency certifying authority is deemed waived pursuant to section 401(a)(1) of the Clean Water Act, 33 U.S.C. 1341(a)(1).

Dated: September 6, 2022.
Kimberly D. Bose,
Secretary.

[FR Doc. 2022-19634 Filed 9-9-22; 8:45 am]

BILLING CODE 6717-01-P